DEPARTMENT OF TRANSPORTATION

Federal Aviation Administration

14 CFR Part 73

[Docket No. FAA-2023-2220; Airspace Docket No. 23-AWP-59]

RIN 2120-AA66

Amendment of Restricted Area R-2512 Holtville, CA

AGENCY: Federal Aviation Administration (FAA), DOT.

ACTION: Final rule; correction; withdrawal.

SUMMARY: This action withdraws the final rule correction published in the Federal Register on December 6, 2023. That action incorrectly stated that the action would be incorporated by reference. The FAA has determined that withdrawal of the final rule correction is warranted since the action is not incorporated by reference.

DATES: As of date 0901 UTC, December 21, 2023, the final rule correction published December 6, 2023 (88 FR 84695), is withdrawn.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register for Docket No. FAA-2023-2220 (88 FR 78636, November 16, 2023) that amended restricted area R-2512 in the vicinity of Holtville, CA. The section of 14 CFR part 73 to be amended by the final rule was inadvertently stated as § 73.22. The correct section of 14 CFR part 73 to be amended is § 73.25.

Subsequently, the FAA published a final rule correction in the Federal Register for Docket No. FAA-2023-2220 (88 FR 84695, December 6, 2023) that amended restricted area R-2512 in the vicinity of Holtville, CA, correcting the section of 14 CFR part 73 to be amended. That action incorrectly stated that the action is incorporated by reference under 1 CFR part 51. As a result, the final rule correction is being withdrawn.

Lists of Subjects in 14 CFR Part 73

Airspace, Prohibited areas, Restricted areas.

The Withdrawal

The FAA determined that the final rule correction published in the Federal Register on December 6, 2023 (88 FR 84695) contains incorrect references. Therefore, the FAA withdraws that final rule correction.

Issued in Washington, DC, on December 15, 2023.
Brian Konie,
Acting Manager, Rules and Regulations Group.

[FR Doc. 2023-28032 Filed 12-20-23; 8:45 am]

BILLING CODE 4910-13-P